DEPARTMENT OF COMMERCE

National Oceanic and Atmospheric Administration

RIN 0648-XD171

Pacific Fishery Management Council; Public Meetings

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet April 3-10, 2014. The Council meeting will begin on Saturday, April 5, 2014 at 8 a.m., reconvening each day through Thursday, April 10, 2014. All meetings are open to the public, except a closed session will be held at 8 a.m. on Saturday, April 5 to address litigation and personnel matters. The Council will meet as late as necessary each day to complete its scheduled business.

ADDRESSES: Meetings of the Council and its advisory entities will be held at the Hilton Vancouver Washington, 301 W. 6th Street, Vancouver, WA 98660; telephone: (360) 993-4500.

Council address: Pacific Fishery Management Council, 7700 NE Ambassador Place, Suite 101, Portland, OR 97220. Instructions for attending the meeting via live stream broadcast are given under SUPPLEMENTARY INFORMATION, below.

FOR FURTHER INFORMATION CONTACT: Dr. Donald O. McIsaac, Executive Director; telephone: (503) 820-2280 or (866) 806-7204 toll free; or access the Council Web site, http://www.pcouncil.org for the current meeting location, proposed agenda, and meeting briefing materials.

SUPPLEMENTARY INFORMATION: The April 5-10, 2014 meeting of the Pacific Fishery Management Council will be streamed live on the internet. The live meeting will be broadcast daily starting at 8 a.m. Pacific Time (PT) beginning on Saturday, April 5, 2014 through Thursday, April 10, 2014. The broadcast will end daily at 6 p.m. PT or when business for the day is complete. Only the audio portion, and portions of the presentations displayed on the screen at the Council meeting, will be broadcast. The audio portion is listen-only; you will be unable to speak to the Council via the broadcast. Join the meeting by visiting this link http://www.joinwebinar.com, enter the Webinar ID for this meeting, which is 548-710-791 and enter your email address as required. It is recommended that you use a computer headset as GoToMeeting allows you to listen to the meeting using your computer headset and speakers. If you do not have a headset and speakers, you may use your telephone for the audio portion of the meeting by dialing this TOLL number 1-914-339-0030 (not a toll free number); entering the phone audio access code 232-435-071; and then entering your Audio Pin which will be shown to you after joining the webinar. The webinar is broadcast in listen only mode.

The following items are on the Pacific Council agenda, but not necessarily in this order.

A. Call to Order

1. Opening Remarks

2. Roll Call

3. Executive Director's Report

4. Approve Agenda

B. Open Comment Period

1. Comments on Non-Agenda Items

C. Administrative Matters

1. Approval of Council Meeting Minutes

2. Membership Appointments and Council Operating Procedures

3. Future Council Meeting Agenda and Workload Planning

D. Habitat

1. Current Habitat Issues

E. Enforcement Issues

1. Annual U.S. Coast Guard Fishery Enforcement Report

F. Salmon Management

1. Tentative Adoption of 2014 Salmon Management Measures for Analysis

2. Clarify Council Direction on 2014 Salmon Management Measures

3. Methodology Review Preliminary Topic Selection

4. Lower Columbia Natural Coho Harvest Rate Matrix Review

5. Final Action on 2014 Salmon Management Measures

G. Pacific Halibut Management

1. Final Incidental Landing Restrictions for 2014-15 Salmon Troll Fishery

H. Groundfish Management

1. National Marine Fisheries Service Report

2. Stock Complex Restructuring Final Action

3. Implement 2014 Pacific Whiting Fishery Under the U.S.-Canada Whiting Agreement

4. Mid-Water Sport Fishery

5. Fixed Gear Sablefish Catch Share Program Review

6. Methodology Review Process

7. Biennial Specifications for Fisheries in 2015-16 and Beyond

8. Electronic Monitoring Program Development Including Preliminary Approval of Exempted Fishing Permits

9. Inseason Adjustments

10. Management Measures—for Fisheries in 2015-16 and Beyond

I. Coastal Pelagic Species Management

1. Experimental Fishing Permits for 2014

2. Sardine Assessment, Specifications, and Management Measures

J. Ecosystem Management

1. Protecting Unfished and Unmanaged Forage Fish Species Initiative

Schedule of Ancillary Meetings

Day 1—Thursday, April 3, 2014

Groundfish Management Team—1 p.m.

Day 2—Friday, April 4, 2014

Scientific and Statistical Committee Groundfish Subcommittee—8 a.m.

Groundfish Management Team—8 a.m.

Salmon Advisory Subpanel—8 a.m.

Salmon Technical Team—8 a.m.

Habitat Committee—8:30 a.m.

Model Evaluation Workgroup—11 a.m.

Budget Committee—2:30 p.m.

Day 3—Saturday, April 5, 2014

California State Delegation—7 a.m.

Oregon State Delegation—7 a.m.

Washington State Delegation—7 a.m.

Groundfish Advisory Subpanel—8 a.m.

Groundfish Management Team—8 a.m.

Scientific and Statistical Committee—8 a.m.

Salmon Advisory Subpanel—8 a.m.

Salmon Technical Team—8 a.m.

Enforcement Consultants—3 p.m.

Chair's Reception—6 p.m.

Day 4—Sunday, April 6, 2014

California State Delegation—7 a.m.

Oregon State Delegation—7 a.m.

Washington State Delegation—7 a.m.

Groundfish Management Team—8 a.m.

Groundfish Advisory Subpanel—8 a.m.

Salmon Advisory Subpanel—8 a.m.

Salmon Technical Team—8 a.m.

Enforcement Consultants—As Needed

Day 5—Monday, April 7, 2014

California State Delegation—7 a.m.

Oregon State Delegation—7 a.m.

Washington State Delegation—7 a.m.

Coastal Pelagic Species Advisory Subpanel—8 a.m.

Coastal Pelagic Species Management Team—8 a.m.

Groundfish Advisory Subpanel—8 a.m.

Groundfish Management Team—8 a.m.

Lower Columbia Natural Coho Workgroup—8 a.m.

Salmon Advisory Subpanel—8 a.m.

Salmon Technical Team—8 a.m.

Enforcement Consultants—As Needed

Day 6—Tuesday, April 8, 2014

California State Delegation—7 a.m.

Oregon State Delegation—7 a.m.

Washington State Delegation—7 a.m.

Coastal Pelagic Species Advisory Subpanel—8 a.m.

Coastal Pelagic Species Management Team—8 a.m.

Groundfish Advisory Subpanel—8 a.m.

Groundfish Management Team—8 a.m.

Salmon Advisory Subpanel—8 a.m.

Salmon Technical Team—8 a.m.

Ecosystem Advisory Subpanel—1 p.m.

Enforcement Consultants—As Needed

Day 7—Wednesday, April 9, 2014

California State Delegation—7 a.m.

Oregon State Delegation—7 a.m.

Washington State Delegation—7 a.m.

Ecosystem Advisory Subpanel—8 a.m.

Groundfish Advisory Subpanel—8 a.m.

Groundfish Management Team 8—a.m.

Salmon Advisory Subpanel—8 a.m.

Salmon Technical Team—8 a.m.

Enforcement Consultants—As Needed

Day 8—Thursday, April 10, 2014

California State Delegation—7 a.m.

Oregon State Delegation—7 a.m.

Washington State Delegation—7 a.m.

Ecosystem Advisory Subpanel—8 a.m.

Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Carolyn Porter at (503) 820-2280 at least 5 days prior to the meeting date.

Dated: March 11, 2014.
Tracey L. Thompson,
Acting Deputy Director, Office of Sustainable Fisheries, National Marine Fisheries Service.

[FR Doc. 2014-05642 Filed 3-13-14; 8:45 am]

BILLING CODE 3510-22-P